DEPARTMENT OF AGRICULTURE

Forest Service

Virginia Resource Advisory Committee

AGENCY: Forest Service, USDA.

ACTION: Notice of meetings.

SUMMARY: The Virginia Resource Advisory Committee (RAC) will meet in Roanoke, Virginia. The Committee is authorized under the Secure Rural Schools and Community Self-Determination Act of 2000 (the Act) (Pub. L. 112-141) and operates in compliance with the Federal Advisory Committee Act (FACA) (Pub. L. 92-463). The RAC's purposes are to improve collaborative relationships and to provide advice and recommendations to the Forest Service concerning projects and funding consistent with Title II of the Act. The meetings are open to the public. The purpose of the meetings is to prioritize and recommend projects for Title II funds.

DATES: The meetings will be held at 10:00 a.m. to 6:00 p.m. on the following dates:

• July 11, 2014.

• July 18, 2014.

All RAC meetings are subject to cancellation. For status of meeting prior to attendance, please contact the person listed under FOR FURTHER INFORMATION CONTACT.

ADDRESSES: The meetings will be held at the George Washington and Jefferson National Forests (NF) Supervisor's Office, Conference Room, 5162 Valleypointe Parkway, Roanoke, Virginia. Written comments may be submitted as described under SUPPLEMENTARY INFORMATION listed below. All comments, including names and addresses when provided, are placed in the record and are available for public inspection and copying. The public may inspect comments received at the George Washington and Jefferson NF Supervisor's Office. Please call ahead to facilitate entry into the building in order to view comments.

FOR FURTHER INFORMATION CONTACT: Michael Williams, RAC Coordinator, by phone at 540-265-5173 or via email at mrwilliams04@fs.fed.us.

Individuals who use telecommunication devices for the deaf (TDD) may call the Federal Information Relay Service (FIRS) at 1-800-877-8339 between 8:00 a.m. and 8:00 p.m., Eastern Standard Time, Monday through Friday. Please make requests in advance for sign language interpreting, assistive listening devices or other reasonable accommodation for access to the facility or proceedings by contacting the person listed above.

SUPPLEMENTARY INFORMATION: Additional RAC information, including the meeting agenda and the meeting summary/minutes can be found at the following Web site: www.fs.fed.us/r8/gwj. The agenda will include time for people to make oral statements of three minutes or less. Individuals wishing to make an oral statement should request in writing by July 7, 2014 to be scheduled on the agenda. Anyone who would like to bring related matters to the attention of the committee may file written statements with the committee staff before or after the meeting. Written comments and requests for time for oral comments must be sent to Michael Williams, RAC Coordinator, George Washington and Jefferson NF Supervisor's Office, 5162 Valleypointe Parkway, Roanoke, Virginia 24019; by email to mrwilliams04@fs.fed.us or via facsimile to 540-265-5145.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: June 2, 2014.
H. Thomas Speaks,
Forest Supervisor.

[FR Doc. 2014-13341 Filed 6-6-14; 8:45 am]

BILLING CODE 3411-15-P